DEPARTMENT OF ENERGY

Federal Energy Regulatory Commission

Notice of Request To Use Alternative Procedures in Preparing a License Application

October 24, 2001.

Take notice that the following request to use alternative procedures to prepare a license application has been filed with the Commission.

a. Type of Application: Request to use alternative procedures to prepare an original license application.

b. Project No.: 11894.

c. Date filed: October 19, 2001.

d. Applicant: Rugraw, Inc.

e. Name of Project: Lassen Lodge Project.

f. Location: On the South Fork Of Battle Creek, near the town of Mineral in Tehama County, California. The project would not be located on federal lands.

g. Filed Pursuant to: Federal Power Act, 16 USC 791(a)-825(r).

h. Applicant Contact: Arthur Hagood, Vice President, Synergics Centre, Synergics Energy Services (Synergics), 191 Main Street, Annapolis, MD 21401; 410-268-8820.

i. FERC Contact: Alan Mitchnick at (202) 219-2826; e-mail Alan.Mitchnick@ferc.fed.us.

j. Deadline for Comments: November 23, 2001.

All documents (original and eight copies) should be filed with: David P. Boergers, Secretary, Federal Energy Regulatory Commission, 888 First Street, NE, Washington, DC 20426. Comments, protests and interventions may be filed electronically via the Internet in lieu of paper. See, 18 CFR 385.2001(a)(1)(iii) and the instructions on the Commission's web site under the “e-Filing” link.

k. The proposed project would require the construction of: (1) An 80-foot-long diversion structure with a maximum height of 6 feet; (2) about 7,000 feet of low-pressure pipeline and about 12,000 feet of high-pressure pipeline; (3) a powerhouse with an installed capacity of 7 megawatts; and (4) 10 miles of 60-kilovolt transmission line.

l. A copy of the request to use alternative procedures is on file with the Commission and is available for public inspection. This filing may also be viewed on the web at http://www.ferc.gov using the “RIMS” link—select “Docket #” and follow the instructions (call 202-208-2222 for assistance). A copy is also available for inspection and reproduction at the address in item h above.

m. Synergics, on behalf of Rugraw, Inc. has demonstrated that it has made an effort to contact all federal and state resources agencies, non-governmental organizations (NGO), and others affected by the project. Synergics has also demonstrated that a consensus exists that the use of alternative procedures is appropriate in this case. Synergics has submitted a communications protocol that is supported by the stakeholders.

The purpose of this notice is to invite any additional comments on Synergics' request to use the alternative procedures, pursuant to Section 4.34(i) of the Commission's regulations. Additional notices seeking comments on the specific project proposal, interventions and protests, and recommended terms and conditions will be issued at a later date. Synergics will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Synergics has contacted federal and state resources agencies, NGOs, elected officials, environmental groups, and the public regarding the Lassen Lodge Project. Synergics intends to file 6-month progress reports during the alternative procedures process.

David P. Boergers,
Secretary.

[FR Doc. 01-27196 Filed 10-29-01; 8:45 am]

BILLING CODE 6717-01-P